COMMITTEE FOR PURCHASE FROM PEOPLE WHO ARE BLIND OR SEVERELY DISABLED

Procurement List Deletions

AGENCY: Committee for Purchase From People Who Are Blind or Severely Disabled.

ACTION: Deletions from the Procurement List.

SUMMARY: This action deletes products from the Procurement List that were previously furnished by nonprofit agency employing persons who are blind or have other severe disabilities.

DATES: Effective: May 8, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Deletions

On 3/4/2016 (81 FR 11520), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s)

MR 941—Cloth, Dish, Knitted Cotton, 4 pack

Mandatory Source(s) of Supply: Lions Services, Inc., Charlotte, NC

Contracting Activity: Defense Commissary Agency

NSN(s)—Product Name(s)

MR 354—Multipurpose Food Dicer

Mandatory Source(s) of Supply: Industries for the Blind, Inc., West Allis, WI

Contracting Activity: Defense Commissary Agency

NSN(s)—Product Name(s)

7530-00-NIB-0496—Index Tabs, Mylar Reinforced

7530-00-NIB-0497—Index Tabs, Mylar Reinforced

7530-00-NIB-0498—Index Tabs, Mylar Reinforced

7530-00-NIB-0499—Index Tabs, Mylar Reinforced

7530-00-NIB-0500—Index Tabs, Mylar Reinforced

7530-00-NIB-0501—Index Tabs, Mylar Reinforced

7530-00-NIB-0502—Index Tabs, Mylar Reinforced

7530-00-NIB-0503—Index Tabs, Mylar Reinforced

7530-00-NIB-0504—Index Tabs, Mylar Reinforced

Mandatory Source(s) of Supply: South Texas Lighthouse for the Blind, Corpus Christi, TX

Contracting Activity: General Services Administration, New York, NY

NSN(s)—Product Name(s)

9320-00-NSH-0001—Foam Cutouts

Mandatory Source(s) of Supply: Epilepsy Association of Georgia, Warner Robins, GA (Deleted)

Contracting Activity: Dept of the Air Force, FA8501 AFSC PZIO, Robins AFB, GA

Barry S. Lineback,
Director, Business Operations.

[FR Doc. 2016-08105 Filed 4-7-16; 8:45 am]

BILLING CODE 6353-01-P